DEPARTMENT OF THE TREASURY

Proposed Collection; Comment Request; Office of the Assistant Secretary for Financial Markets

AGENCY: Departmental Office, Treasury.

ACTION: Notice and request for comments.

SUMMARY: The Department of the Treasury, as part of its continuing effort to reduce paperwork and respondent burden, invites the general public and other Federal agencies to comment on a revision of an existing information collection, as required by the Paperwork Reduction Act of 1995, Public Law 104-13 (44 U.S.C. 3506(c)(2)(A)). Currently, the Office of the Assistant Secretary for Financial Markets, within the Department of the Treasury, is soliciting comments concerning the New Issue Bond Program and Temporary Credit and Liquidity Program.

DATES: Written comments should be received on or before May 27, 2014 to be assured of consideration.

ADDRESSES: Send comments regarding the burden estimate, or any other aspect of the information collection, including suggestions for reducing the burden, to the Preston Atkins, Director of the HFA Initiative, Room 1136J, Main Treasury Building, Washington, DC 20220 or email at HFAReporting@treasury.gov.

FOR FURTHER INFORMATION CONTACT: Requests for additional information should be directed to Preston Atkins, Director of the HFA Initiative, Room 1136J, Main Treasury Building, Washington, DC 20220 or email at HFAReporting@treasury.gov.

SUPPLEMENTARY INFORMATION:

OMB Control Number: 1505-0224.

Title: New Issue Bond Program and Temporary Credit and Liquidity Program.

Abstract: Authorized under section 304(g) of the Federal National Mortgage Association Charter Act (12 U.S.C. 1719(g)) and Section 306(l) of the Federal Home Loan Mortgage Corporation Act (12 U.S.C. 1455(l), as amended by the Housing and Economic Recovery Act (HERA) of 2008 (Pub. L. 110-289; approved July 30, 2008) the Department of the Treasury (Treasury) implemented two programs under the HFA (Housing Finance Agency) Initiative. The statute provides the Secretary authority to purchase securities and obligations of Fannie Mae and Freddie Mac (the GSEs) as he determines necessary to stabilize the financial markets, prevent disruptions in the availability of mortgage finance, and to protect the taxpayer. On December 4, 2009, the Secretary made the appropriate determination to authorize the two programs of the HFA Initiative: The New Issue Bond Program (NIBP) and the Temporary Credit and Liquidity Program (TCLP). Under the NIBP, Treasury purchased securities from the GSEs backed by mortgage revenue bonds issued by participating state and local HFAs. Under the TCLP, Treasury purchased a participation interest from the GSEs in temporary credit and liquidity facilities provided to participating HFAs as a liquidity backstop on their variable-rate debt. In order to properly manage the two programs of the initiative, continue to protect the taxpayer, and assure compliance with the Programs' provisions, Treasury instituted a series of data collection requirements to be completed by participating HFAs and furnished to Treasury through the GSEs.

Type of Review: Revision of a currently approved collection.

Affected Public: Private sector: Businesses or other for profit institutions; not-for-profit institutions.

Estimated Number of Respondents: 66.

Estimated Annual Response: 3,674.

Estimated Annual Burden Hours: 19,359.

Request For Comment: Comments submitted in response to this notice will be summarized and included in the request for Office of Management and Budget approval. All comments will become a matter of public record. The public is invited to submit comments concerning: (a) Whether the collection of information is necessary for the proper performance of the functions of the agency, including whether the information will have practical utility; (b) the accuracy of the agency's estimate of the burden of the collection of information; (c) ways to enhance the quality, utility, and clarity of the information to be collected; and (d) ways to minimize the burden of the collection of information on respondents, including the use of automated collection techniques or other forms of information technology; and (e) estimates of capital or start-up costs and costs of operation, maintenance, and purchase of services to provide information.

Dated: March 24, 2014.
Dawn D. Wolfgang,
Treasury PRA Clearance Officer.

[FR Doc. 2014-06819 Filed 3-26-14; 8:45 am]

BILLING CODE 4810-25-P